DEPARTMENT OF HOMELAND SECURITY

Federal Emergency Management Agency

[Docket ID FEMA-2025-0080]

State of Michigan Radiological Emergency Preparedness Plan

AGENCY: Federal Emergency Management Agency, Department of Homeland Security.

ACTION: Notice of receipt of plan; notice of availability.

SUMMARY: The Federal Emergency Management Agency (FEMA) is announcing the receipt of an application from the State of Michigan for the review and approval of the State's radiological emergency plan. For continued operation of nuclear power plants, the Nuclear Regulatory Commission requires approved licensee and State and local governments' radiological emergency response plans. Since FEMA has a responsibility for reviewing the State and local government off-site radiological emergency response plans, the State of Michigan has submitted its radiological emergency response plan to the FEMA Region 5 office. The State's application also included the radiological emergency response plans for Allegan, Berrien and Van Buren counties. These plans support Holtec International's Palisades Nuclear Generating Station located in Van Buren County, Michigan.

DATES: This application was received on May 30, 2025.

ADDRESSES: The State's application is available for review at the FEMA Region 5 office located at 536 S Clark Street, 6th Floor, Chicago, IL 60605. Contact Sean O'Leary at sean.oleary@fema.dhs.gov to arrange to review the application in the office. A Freedom of Information Act (FOIA) request can be submitted to fema-foia@fema.dhs.gov. In accordance with the Department of Homeland Security's FOIA regulations, component agencies shall charge for processing requests under FOIA in accordance with the provisions of 6 CFR 5.11.¹

¹ 44 CFR 350.8 currently references 44 CFR 5.26. Section 5.26 was part of FEMA's FOIA regulations and was removed when the Department of Homeland Security (DHS) updated its own FOIA regulations, 6 CFR part 5, which also apply to FEMA. See 81 FR 83625 (Nov. 22, 2016).

FOR FURTHER INFORMATION CONTACT: Michael Chesney, Acting Regional Administrator, FEMA Region 5, 536 S Clark Street, 6th Floor, Chicago, IL 60605. Phone: 312-408-5501; email: FEMA-publiccomment-Palisades@fema.dhs.gov.

SUPPLEMENTARY INFORMATION: In support of the Federal requirement for radiological emergency response plans, FEMA's regulations at 44 CFR part 350 describe the agency's procedures for review and approval of State and local governments' radiological emergency response plans. FEMA is publishing this notice pursuant to 44 CFR 350.8. The FEMA Region 5 office received the State's application including the radiological emergency response plan for the State of Michigan on May 30, 2025.

The State's application includes plans for local governments which are wholly or partially within the plume exposure pathway emergency planning zones of the nuclear plant. For the Palisades Nuclear Generating Station, plans are included for Allegan, Berrien, and Van Buren Counties.

FEMA's regulations at 44 CFR 350.10 call for a public meeting prior to approval of the plans. Details of this meeting will be announced in advance. Local newspapers, radio, and television stations will provide notice to the public in advance of the meeting.

Authority: The Robert T. Stafford Disaster Relief and Emergency Assistance Act, as amended, 42 U.S.C. 5121 et seq.; 6 U.S.C. 101 et seq.; and 44 CFR part 350.

Michael S. Chesney,
Acting Regional Administrator, Region 5, Federal Emergency Management Agency.

[FR Doc. 2025-12892 Filed 7-9-25; 8:45 am]

BILLING CODE 9110-21-P